DEPARTMENT OF THE INTERIOR

Bureau of Land Management

[NV-010-1990-EX]

Notice of Availability of Record of Decision for the Betze Project Dewatering, Eureka and Elko Counties, NV

AGENCY: Bureau of Land Management.

ACTION: Notice of availability (NOA) of record of decision.

SUMMARY: Pursuant to section 202 of the National Environmental Policy Act of 1969, a Supplemental Environmental Impact Statement (SEIS) has been prepared, under third party contract, by the Bureau of Land Management (BLM) Elko Field Office. The SEIS was prepared to analyze the impacts of Barrick Goldstrike Inc.'s dewatering program for the Betze Project and determine suitable mitigation measures. The Final SEIS was released to the public on January 31, 2003. The Record of Decision was signed by the Elko Field Manager on March 4, 2003, approving the SEIS and the proposed mitigation measures.

Copies of the ROD can be obtained from the Elko Field Office at 3900 Idaho Street, Elko, Nevada, or by calling (775) 753-0200 and requesting a copy of the document. It may also be downloaded from the Elko Field office Internet site at www.nv.blm.gov/elko. Additionally, a copy of the ROD will be mailed to individuals, agencies, or companies that commented during the scoping process, or on the Draft and Final SEIS.

EFFECTIVE DATES: Parties adversely affected by the Record of Decision have 30 days, from the date of publication of this notice, to file a Notice of Appeal in the office which issues this decision (43 CFR 4.411 and 4.413). The decision to approve the mining operation is in full force and effect, effective on the date of signing of the Record of Decision. A petition for a stay of the decision must be filed in accordance with the above cited regulations.

ADDRESSES: A copy of the Record of Decision can be obtained from: Bureau of Land Management, Elko Field Office, 3900 Idaho Street, Elko, Nevada 89801. A Notice of Appeal should be addressed to Bureau of Land Management, Elko Field Office, 3900 Idaho Street, Elko, NV 89801, and a copy to: Office of the Regional Solicitor, Salt Lake City Federal Building, 125 South State Street, Salt Lake City, UT 84138.

FOR FURTHER INFORMATION CONTACT: Kirk Laird, SEIS Coordinator, at Bureau of Land Management, Elko Field Office, 3900 Idaho Street, Elko, NV 89801 or telephone (775) 753-0200.

David Stout,
Associate Field Manager.

[FR Doc. 03-8797 Filed 4-17-03; 8:45 am]

BILLING CODE 4310-HC-P